DEPARTMENT OF LABOR

Employment and Training Administration

[TA-W-70,994]

Hach Company a Subsidiary of Danaher Including On-Site Leased Workers From Express Employment Profesionals, Grants Pass, OR; Amended Certification Regarding Eligibility To Apply for Worker Adjustment Assistance

In accordance with Section 223 of the Trade Act of 1974, as amended (“Act”), 19 U.S.C. 2273, the Department of Labor issued a Certification of Eligibility to Apply for Worker Adjustment Assistance on January 20, 2010, applicable to workers of Hack Company, a subsidiary of Danaher, Grants Pass, Oregon. The workers produce devices used to test air and water quality.

The notice was published in the Federal Register on March 5, 2010 (75 FR 10320).

At the request of the State agency, the Department reviewed the certification for workers of the subject firm. The company reports that workers leased from Express Employment Professionals were employed on-site at the Grants Pass, Oregon location of Hach Company, s subsidiary of Danaher. The Department has determined that these workers were sufficiently under the control of Hach Company, subsidiary of Danaher to be considered leased workers.

Based on these findings, the Department is amending this certification to include workers leased from Express Employment Professionals working on-site at the Grants Pass, Oregon location of Hach Company, a subsidiary of Danaher.

The amended notice applicable to TA-W-70,994 is hereby issued as follows:

All workers of Hach Company, a subsidiary of Danaher, including on-site leased workers from Express Employment Professionals, Grants Pass, Oregon, who became totally or partially separated from employment on or after June 4, 2008, through January 20, 2012, and all workers in the group threatened with total or partial separation from employment on the date of certification through two years from the date of certification, are eligible to apply for adjustment assistance under Chapter 2 of Title II of the Trade Act of 1974, as amended.

Signed in Washington, DC, this 15th day of March, 2011.
Michael W. Jaffe,
Certifying Officer, Office of Trade Adjustment Assistance.

[FR Doc. 2011-6806 Filed 3-22-11; 8:45 am]

BILLING CODE 4510-FN-P